DEPARTMENT OF THE INTERIOR

Bureau of Reclamation

Freeport Regional Water Project, Sacramento, CA

AGENCY: Bureau of Reclamation, Interior.

ACTION: Notice of Availability of the Draft Environmental Impact DES03-48 Statement/Environmental Impact Report (Draft EIS/EIR) and notice of public hearings.

SUMMARY: The Bureau of Reclamation (Reclamation) and the Freeport Regional Water Authority (FRWA) have made available for public review and comment the Draft EIS/EIR for the Freeport Regional Water Project.

The proposed project would construct and operate a water supply system to meet regional water supply needs. The project would (1) support acquisition of additional Sacramento County Water Agency (SCWA) surface water entitlements to promote efficient conjunctive use of groundwater in its Zone 40 area, consistent with the Sacramento Area Water Forum Agreement and County of Sacramento General Plan policies; (2) provide facilities through which SCWA can deliver existing and anticipated surface water entitlements to Zone 40 area; (3) provide facilities through which East Bay Municipal Utility District (EBMUD) can take delivery of a supplemental supply of water that would substantially meet its need for water and reduce existing and future customer deficiencies during droughts; and (4) improve EBMUD system reliability and operational flexibility during droughts, catastrophic events, and scheduled major maintenance at Pardee Dam or Reservoir.

DATES: Submit written comments on the Draft EIS/EIR on or before October 7, 2003 at the address provided below. Four public hearings have been scheduled to receive oral or written comments regarding the project's environmental effects:

• Thursday, September 4, 2003, 6:30-8:30 p.m., Sacramento, CA

• Tuesday, September 9, 2003, 6:30-8:30: p.m., Herald, CA

• Wednesday, September 10, 2003, 6:30-8:30 p.m., Oakland, CA

• Thursday, September 11, 2003, 6:30-8:30 p.m., Sacramento, CA

ADDRESSES: The public hearings will be held at the following locations:

• Sacramento, CA (September 4)—Pannell Community Center, 2450 Meadowview Road

• Herald, CA—Herald Fire Department, 127 Ivie Road

• Oakland, CA—EBMUD Training Room, 375 11th Street, 2nd Floor

• Sacramento, CA (September 11)—Wildhawk Golf Course, 7713 Vineyard Road

Please send written comments to Freeport Regional Water Project, Draft EIS/EIR Comments, Freeport Regional Water Authority, 1510 J Street #140, Sacramento, CA 95814, Fax: (916) 444-2137.

Copies of the Draft EIS/EIR may be requested from Mr. Kroner at the above address or by calling (916) 326-5489. See Supplementary Information section for locations where copies of the Draft EIS/EIR are available for public inspection.

FOR FURTHER INFORMATION CONTACT: Mr. Rob Schroeder, Reclamation, at (916) 989-7274, TDD (916) 989-7285, or e-mail: rschroeder@mp.usbr.gov; or Mr. Kurt Kroner, at (916) 326-5489, or e-mail at k.kroner@frwa.com.

SUPPLEMENTARY INFORMATION: The Draft EIS/EIR addresses facilities-related impacts including the effects of project construction and operation on hydrology, water quality, fish resources, recreation, vegetation and wildlife, visual resources, cultural resources, land use, geology, soils, seismicity, groundwater, traffic and circulation, air quality, noise, and public health and safety. Diversion-related impacts include the effects of increased diversions from the Sacramento River and associated changes in Reclamation's operation of Central Valley Project (CVP) facilities. Project diversions therefore may directly or indirectly affect the Sacramento River, its tributaries, and Delta resources including water supply, fish and aquatic habitat, riparian vegetation and habitat, water quality, recreation, visual and cultural resources, and power supply. The Draft EIS/EIR also evaluates potential growth-inducing impacts for the SCWA and EBMUD water service areas. An evaluation of cumulative hydrologic and water service area impacts associated with reasonably foreseeable actions is also included.

Copies of the Draft EIS/EIR are available for public inspection and review at the following locations:

• East Bay Municipal Utility District, 375 11th Street, Oakland, CA, 94607

• Sacramento County Water Agency, 827 Seventh Street, Room 301, Sacramento, CA, 95814

• Sacramento County Clerk-Recorder's Office, 600 Eighth Street, Sacramento, CA, 95814

• Sacramento Public Library, 828 I Street, Sacramento, CA 95814

• Bureau of Reclamation, 7794 Folsom Dam Road, Folsom, CA 95630

• Bureau of Reclamation, Denver Office Library, Building 67, Room 167, Denver Federal Center, 6th and Kipling, Denver, CO 80225; telephone: (303) 445-2072

• Bureau of Reclamation, Office of Public Affairs, 2800 Cottage Way, Sacramento, CA 95825-1898; telephone: (916) 978-5100

• Natural Resources Library, U.S. Department of the Interior, 1849 C Street NW., Main Interior Building, Washington, DC 20240-0001

• Elk Grove Community Library, 8962 Elk Grove Boulevard, Elk Grove, CA, 95624

• Belle Cooledge Community Library, 5600 Southland Park Drive, Sacramento, CA, 95822

• Valley Hi—North Laguna, 6351 Mack Road, Sacramento, CA, 95823

• Southgate Community Library, 6132 66th Avenue, Sacramento, CA, 95823

• Galt Neighborhood Library, 1000 Caroline Avenue, Sacramento, CA, 95632

• Pannell Community Center, 2450 Meadowview Road, Sacramento, CA, 95832

• Clarksburg Branch Library, 52915 Netherlands Road, P.O. Box 229, Clarksburg, CA, 95612

• Lodi Public Library, 201 W. Locust Street, Lodi, CA, 95240

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Hearing Process Information: The purpose of the public hearing is to provide the public with an opportunity to comment on environmental issues addressed in the Draft EIS/EIR. Written comments will also be accepted.

Dated: July 15, 2003.
William H. Luce, Jr.,
Acting Regional Director, Mid-Pacific Region.

[FR Doc. 03-20273 Filed 8-7-03; 8:45 am]

BILLING CODE 4310-MN-P